NATIONAL INSTITUTE FOR LITERACY

National Institute for Literacy Advisory Board; Notice of Meeting

AGENCY: National Institute for Literacy (NIFL).

ACTION: Notice of meeting.

SUMMARY: This notice sets forth the schedule and proposed agenda of a forthcoming meeting of the National Institute for Literacy Advisory Board (Board). This notice also describes the function of the Board. Notice of this meeting is required under Section 10(a)(2) of the Federal Advisory Committee Act. This document is intended to notify the general public of their opportunity to attend the meeting.

Date and Time: November 13, 2000 from 9:30 AM to 4:30 PM, and November 14, 2000 from 9:30 AM to 1:30 PM.

ADDRESSES: National Institute for Literacy (NIFL), 1775 I Street, NW, Suite 730, Washington, DC 20006.

FOR FURTHER INFORMATION CONTACT: Shelly Coles, Executive Assistant, National Institute for Literacy (NIFL), 1775 I Street, NW, Suite 730, Washington, DC 20006. Telephone number (202) 233-2027, email scoles@nifl.gov.

SUPPLEMENTARY INFORMATION: The Board is established under the Workforce Investment Act of 1998, Title II of P.L. 105-220, Sec. 242, the National Institute for Literacy. The Board consists of ten individuals appointed by the President with the advice and consent of the Senate. The Board is established to advise and make recommendations to the Interagency Group, composed of the Secretaries of Education, Labor, and Health and Human Services, which administers the National Institute for Literacy (Institute). The Interagency Group considers the Board's recommendations in planning the goals of the Institute and in the implementation of any programs to achieve the goals of the Institute. Specifically, the Board performs the following function (a) makes recommendations concerning the appointment of the Director and the staff of the Institute; (b) provides independent advice on operation of the Institute; and (c) receives reports from the Interagency Group and Director of the Institute. In addition, the Institute consults with the Board on the award of fellowships. The National Institute for Literacy Advisory Board will be meeting on November 13, 2000 and November 14, 2000. The meeting is opened to the public. The Board will cover the following topics: the fiscal year 2001 appropriations bill and other legislative issues impacting NIFL and literacy; a discussion of follow-up activities related to the National Literacy Summit; funding from the private sector for NIFL activities; and an update on NIFL program activities with a focus on recent grants and contracts.

Records are kept of all Board proceedings and are available for public inspection at the National Institute for Literacy (NIFL), 1775 I Street, NW, Suite 730, Washington, DC 20006, from Monday through Friday, 8:30 AM to 5 PM.

Dated: October 30, 2000.
Andrew J. Hartman,
Director.

[FR Doc. 00-28200 Filed 10-30-00; 4:45 pm]

BILLING CODE 6055-01-P